COMMITTEE FOR PURCHASE FROM PEOPLE WHO ARE BLIND OR SEVERELY DISABLED

Procurement List; Additions and Deletions

AGENCY: Committee for Purchase from People Who are Blind or Severely Disabled.

ACTION: Deletions from Procurement List.

SUMMARY: This action deletes from the Procurement List products previously furnished by nonprofit agencies employing persons who are blind or have other severe disabilities.

DATES: Effective Date: January 7, 2007.

ADDRESS: Committee for Purchase From People Who are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail CMTEFedReg@jwod.gov.

SUPPLEMENTARY INFORMATION:

Deletions

On October 13, 2006, the Committee for Purchase From People Who Are Blind or Severely Disabled published notice (71 FR 60471) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

PRODUCT/NSN: Computer Accessories.

NSN: 7045-01-483-7843—Visionguard Plus Anti-Glare Screen.

NSN: 7045-01-483-7836—Quick Keyboard Drawer.

NSN: 7045-01-483-7449—Disk File 100 for 3½” Disks.

NSN: 7045-01-483-7839—Ergo Gel Keyboard Drawer.

NPA: Wiscraft Inc.—Wisconsin Enterprises for the Blind, Milwaukee, WI.

Contracting Activity: Office Supplies & Paper Products Acquisition Ctr, New York, NY.

PRODUCT/NSN: Drape, Surgical.

NSN: 6530-00-299-9604—Drape, Surgical.

NSN: 6530-00-299-9605—Drape, Surgical.

NSN: 6530-00-299-9607—Drape, Surgical.

NSN: 6530-00-299-9608—Drape, Surgical.

NPA: In-Sight, Warwick, RI.

NPA: Alabama Industries for the Blind, Talladega, AL.

NPA: Mississippi Industries for the Blind, Jackson, MS.

Contracting Activity: Defense Supply Center Philadelphia, Philadelphia, PA.

PRODUCT/NSN: Kit, Suture Removal.

NSN: 6515-01-443-0976—Kit, Suture Removal.

NPA: Washington-Greene County Branch, PAB, Washington, PA.

Contracting Activity: Veterans Affairs National Acquisition Center, Hines, IL.

PRODUCT/NSN: Mask, Surgical.

NSN: 6515-00-982-7493—Mask, Surgical.

NPA: Industries of the Blind, Inc., Greensboro, NC.

NPA: Susquehanna Association for the Blind and Visually Impaired, Lancaster, PA.

NPA: Washington-Greene County Branch, PAB, Washington, PA.

Contracting Activity: Defense Supply Center Philadelphia, Philadelphia, PA.

Contracting Activity: Veterans Affairs National Acquisition Center, Hines, IL.

PRODUCT/NSN: Mat, Floor.

NSN: 7220-00-205-3192—Mat, Floor (For Chairs), 36′x48′.

NSN: 7220-00-205-3182—Mat, Floor (For Chairs), 49′x55′.

NPA: Northeastern Michigan Rehabilitation and Opportunity Center (NEMROC), Alpena, MI.

Contracting Activity: GSA, Southwest Supply Center, Fort Worth, TX.

PRODUCT/NSN: Tape, Electronic Data Processing.

NSN: 7045-01-293-4809—Tape, Electronic Data Processing.

NPA: North Central Sight Services, Inc., Williamsport, PA.

Contracting Activity: Defense Supply Center Columbus, Columbus, OH.

PRODUCT/NSN: Thumbtacks, Maptacks and Pushpins.

NSN: 7510-00-285-5844—Maptacks, Assorted Colors.

NSN: 7510-00-272-3099—Maptacks, White.

NPA: Delaware County Chapter, NYSARC, Inc., Walton, NY.

Contracting Activity: Office Supplies & Paper Products Acquisition Ctr, New York, NY.

PRODUCT/NSN: Tracheotomy Care Kit.

NSN: 6515-01-447-1720—Tracheotomy Care Kit.

NPA: Washington-Greene County Branch, PAB, Washington, PA.

Contracting Activity: Veterans Affairs National Acquisition Center, Hines, IL.

Sheryl D. Kennerly,
Director, Information Management.

[FR Doc. E6-20879 Filed 12-7-06; 8:45 am]

BILLING CODE 6353-01-P